ENVIRONMENTAL PROTECTION AGENCY

40 CFR Part 52

[IN126-1a; FRL-6986-2]

Approval and Promulgation of Implementation Plans; Indiana

AGENCY: Environmental Protection Agency (EPA).

ACTION: Direct final rule.

SUMMARY: The EPA is approving revisions to particulate matter (PM) emissions regulations for Johns Manville Corporation (Johns Manville). This facility is located in Wayne County, Indiana. The Indiana Department of Environmental Management (IDEM) submitted the revised regulations on December 30, 1999 as an amendment to Indiana's State Implementation Plan (SIP). The revisions consist of increasing seven long-term limits, decreasing one short-term limit, removing an emissions source, and changing the company's name. The Johns Manville facility can operate up to 8760 hours annually with these revisions.

DATES: This rule is effective on July 30, 2001, unless the EPA receives relevant adverse written comments by July 2, 2001. If adverse comment is received, the EPA will publish a timely withdrawal of the rule in the Federal Register and inform the public that the rule will not take effect.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524, E-Mail: rau.matthew@epa.gov.

SUPPLEMENTARY INFORMATION: Throughout this document wherever “we,” “us,” or “our” are used we mean the EPA.

Table of Contents

I. What is the EPA approving?

II. What are the limit changes from the current rules?

III. What is the EPA's analysis of supporting materials provided by Indiana?

IV. What are the environmental effects of these actions?

V. EPA rulemaking actions.

VI. Administrative requirements.

I. What Is the EPA Approving?

The EPA is approving revisions to the particulate matter emissions regulations for Johns Manville, which operates a fiberglass insulation manufacturing facility in Wayne County, Indiana. IDEM submitted the revisions on December 30, 1999 as an amendment to Indiana's SIP.

The revisions consist of the relaxation of seven long-term emissions limits, the tightening of one short-term limit, the removal of one emissions source, and the changing of the company's name from Schuller International, Inc. IDEM predicts that these revisions will result in a potential increase in ambient concentrations of particulate matter. Analysis shows, however, that there are no anticipated exceedances of the PM National Ambient Air Quality Standards (NAAQS) or violations of the applicable Prevention of Significant Deterioration (PSD) increment.

II. What Are the Limit Changes From the Current Rules?

Indiana has removed the emissions limits for one source which is no longer at the facility, and relaxed the long-term emissions limits for seven other sources. In addition, Indiana has tightened one short-term limit.

Indiana eliminated both the long and short-term emissions limits for the Unit 112 Curing Oven (IDEM source ID 18P) because the equipment was removed from the Johns Manville facility.

Indiana relaxed seven long-term limits in order to allow the facility to operate 8760 hours per year. The relaxed long-term limits are:

Source ID | Previous limit | Revised limit
15P | 1.0 TPY | 1.5 TPY
17P | 0.1 | 3.9
19P | 19.5 | 27.4
20P | 4.0 | 6.2
21P | 31.2 | 58.3
22P | 58.5 | 123.6
23P | 15.6 | 45.4

The sources are a Natural Gas Boiler (15P), the Line 6 Electric Melt Furnace (17P), the curing ovens for Line 3 (19P) and Line 6 (20P), and the three forming line processes for Line 2 (21P), Line 3 (22P), and Line 6 (23P). The long-term emissions limit for the Lines 2 and 3 Natural Gas Melt Furnaces (16P) remains unchanged. The total long-term emissions limit is 274.1 TPY. This is an increase of 116.9 TPY over the former total long-term emissions limit of 157.2 TPY.

Indiana tightened the boiler's (15P) short-term emissions limit from 0.150 to 0.0137 pounds per million British thermal units (lb/MMBtu). The reduction is a result of switching the fuel from oil to natural gas. The total short-term limits are 0.0137 lb/MMBtu for the boiler and 0.13 grains per dry standard cubic foot (gr/dscf) for all other sources. A reduction of 0.025 gr/dscf to the total emissions limit is a result of the removal of the Unit 112 Curing Oven (source 18P).

III. What Is the EPA's Analysis of Supporting Materials Provided by Indiana?

Indiana submitted the results of an air quality analysis. Only the portions regarding particulate matter were considered for this rulemaking. Although the SIP particulate matter limits are stated as Total Suspended Particulate (TSP), the ambient standards are expressed as particulate matter less than 10 μm diameter (PM-10). As all particulate matter emitted from the Johns Manville facility is PM-10, PM-10 emissions were used in the analysis. The maximum ambient concentrations of PM-10 were modeled to be 127.2 μg/m³ for the 24-hour average and 36.4 μg/m³ for the annual average. The NAAQS for PM-10 are 150 μg/m³ (24-hour) and 50 μg/m³ (annual). Wayne County, Indiana is in attainment of the particulate matter NAAQS.

The air quality analysis also indicated that this SIP revision is not expected to exceed the applicable PSD increment. The PSD increments for Wayne County are 30 μg/m³ (24-hour) and 17 μg/m³ (annual). The modeled concentrations are 23.5 μg/m³ (24-hour) and 0 μg/m³ (annual). Five years of meteorological data (1986-1990) were used to model the NAAQS and PSD averages. The analysis found no modeled NAAQS violations and no exceedances of the applicable PSD increment. The EPA has analyzed Indiana's submittal and has determined that it is acceptable.

IV. What Are the Environmental Effects of These Actions?

Particulate matter interferes with lung function when inhaled. Exposure to it can cause heart and lung disease. Particulate matter also aggravates asthma. Airborne particulate reduces visibility. The Johns Manville facility does increase its PM emissions with these SIP revisions. The revisions meet the PSD conditions, meaning that the increases are not expected to harm ambient air quality in the Wayne County area. The air quality modeled analysis indicates that the approved PM emissions increase will not create a violation of the NAAQS.

V. EPA Rulemaking Actions

The EPA is approving, through direct final rulemaking, revisions to the particulate atter emissions regulations for Johns Manville in Wayne County, Indiana. These revisions change the name of Schuller International, Incorporated to the Johns Manville Corporation. Other revisions consist of raising seven long-term limits, lowering one short-term limit, and removing an emissions source. These SIP revisions allow Johns Manville to operate its facility full time.

We are publishing this action without a prior proposal because we view these as noncontroversial revisions and anticipate no adverse comments. However, in the “Proposed Rules” section of today's Federal Register, we are publishing a separate document that will serve as the proposal to approve the SIP revision if adverse comments are filed. This rule will be effective on July 30, 2001 without further notice unless we receive relevant adverse written comment by July 2, 2001. If the EPA receives adverse written comment, we will publish a final rule informing the public that this rule will not take effect. We will address all public comments in a subsequent final rule based on the proposed rule. The EPA does not intend to institute a second comment period on this action. Any parties interested in commenting on these actions must do so at this time.

VI. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective July 30, 2001 unless EPA receives adverse written comments by July 2, 2001.

Under section 307(b)(1) of the Clean Air Act, petitions for judicial review of this action must be filed in the United States Court of Appeals for the appropriate circuit by July 30, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: May 9, 2001.
Norman Neidergang,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(139) to read as follows:

§ 52.770 Identification of plan.

* * * * *

(c) * * *

(139) On December 30, 1999, Indiana submitted revised total suspended particulate emissions regulations for Johns Manville Corporation in Wayne County. The submittal appends 326 IAC 6-1-14. It includes raising seven long-term emissions limits, lowering one short-term limit, removing one emissions source, and a name change for the company. The long-term limits are being raised to allow to facility to operate 8760 hours annually. Switching fuel for a boiler allows its short-term limit to be decreased. One emissions source was removed from this facility. The Johns Manville, Wayne County, facility was formerly known as Schuller International, Incorporated.

(i) Incorporation by reference.

Emissions limits for Johns Manville Corporation in Wayne County contained in Indiana Administrative Code Title 326: Air Pollution Control Board, Article 6: Particulate Rules, Rule 1: Non-attainment Area Limitations, Section 14: Wayne County. Filed with the Secretary of State on September 24, 1999, and effective on October 24, 1999. Published in 23 Indiana Register 301 on November 1, 1999.

[FR Doc. 01-13502 Filed 5-30-01; 8:45 am]

BILLING CODE 6560-50-P